DEPARTMENT OF HEALTH AND HUMAN SERVICES

Centers for Disease Control and Prevention

[Program Announcement 02039]

Expansion of HIV/AIDS/STD Prevention and Support in the Royal Government of Cambodia; Notice of Award of Funds

A. Purpose

The Centers for Disease Control and Prevention (CDC) announces the award of fiscal year (FY) 2002 funds for a Cooperative Agreement with the Ministry of Health (MOH), Royal Government of Cambodia (Cambodia), for the improvement and expansion of HIV/AIDS/STD prevention and support activities in Cambodia.

The purpose of this cooperative agreement is to improve and expand laboratory capacity and coordination of HIV prevention activities with the MOH and among non-governmental organizations (NGOs) in Cambodia. This will be accomplished through cooperation between CDC Cambodia, the MOH, National Center for HIV/AIDS Dermatology and STDs (NCHADS), National Clinic for Dermatology and STIs, as well as the MOH National Institute of Public Health (NIPH) to:

(1) Expand the national reference laboratory capacity for HIV and STD at the National Institute of Public Health.

(2) Develop national referral laboratory capacity at NCHADS.

(3) Pilot a program to integrate the various technical strategies of the Global AIDS Program at either the operational health district or the provincial health district level.

These collaborative activities could profoundly impact the scope and intensity of the implementation of the National AIDS Policy, which calls for multi-sectoral action on many fronts. Successful implementation and expansion of laboratory capacity building could substantially increase the MOH's ability to provide high quality reference and referral laboratory service and strengthen ties between NGOs and government HIV/AIDS-related programs. Successful implementation of a pilot integration project through cooperative efforts of MOH, NGOs, and CDC could eventually lead to significant improvements in coordination of HIV/AIDS prevention and care activities country-wide.

B. Eligible Applicants

The MOH is the only appropriate and qualified organization to fulfill the requirements set forth for Cambodia in this announcement because:

1. The MOH is uniquely positioned, in terms of legal authority, experience and credibility among Cambodian citizens to provide health sector HIV/AIDS/STD Prevention Activities.

2. The purpose of the announcement is to build upon an existing framework of health information and activities for which the MOH has the responsibility for implementing.

3. The MOH has been mandated by the National AIDS Authority(NAA) to coordinate and implement health sector activities necessary for the control of the HIV/AIDS epidemic in Cambodia.

4. The MOH already has established mechanisms to access health information enabling it to immediately become engaged in the activities listed in this announcement.

C. Funds

Approximately $810,000 is being awarded in FY2002. The award will begin on or about August 1, 2002 and will be made for a 12-month budget period within a five-year project period.

D. Where to Obtain Additional Information

To obtain business management technical assistance, contact: Angelia D. Hill, Lead Grants Management Specialist, International & Territories Acquisition & Assistance Branch, Procurement and Grants Office, Centers for Disease Control and Prevention, 2920 Brandywine Road, MS E-09, Atlanta, GA 30341-4146. Telephone number: (770) 488-2785. FAX: (770) 488-2866. E-mail address: aph8@cdc.gov.

For program technical assistance, contact: Jack N. Spencer, Global AIDS Program (GAP), Cambodia Country Team, National Center for HIV/STD/and TB Prevention, Centers for Disease Control & Prevention, Cambodia-CDC AIDS Project Team, AmEmbassy Phnom Penh, Phnom Penh, Cambodia. Telephone: 011-855 23 217640. E-mail: jns1@cdc.gov.

Dated: August 14, 2002.
Sandra R. Manning,
CGFM, Director, Procurement & Grants Office, Centers for Disease Control & Prevention.

[FR Doc. 02-21251 Filed 8-20-02; 8:45 am]

BILLING CODE 4163-18-P